SMALL BUSINESS ADMINISTRATION

[Declaration of Disaster #3246 (Amendment #1)]

Commonwealth of Kentucky

In accordance with a notice received from the Federal Emergency Management Agency dated March 2, 2000, the above-numbered Declaration is hereby amended to establish the incident period for this disaster as beginning on February 18, 2000 and continuing through March 2, 2000.

All other information remains the same, i.e., the deadline for filing applications for physical damage is April 28, 2000 and for economic injury the deadline is November 28, 2000.

(Catalog of Federal Domestic Assistance Program Nos. 59002 and 59008).
Dated: March 7, 2000.
Bernard Kulik,
Associate Administrator for Disaster Assistance.

[FR Doc. 00-6351 Filed 3-14-00; 8:45 am]

BILLING CODE 8025-01-P